DEPARTMENT OF ENERGY

Federal Energy Regulatory Commission

[Docket No. RP01-509-000]

Florida Gas Transmission Company; Notice of Proposed Changes in FERC Gas Tariff

August 29, 2001.

Take notice that on August 17, 2001, Florida Gas Transmission Company (FGT) tendered for filing to become part of its FERC Gas Tariff, Third Revised Volume No. 1, the following tariff sheets, effective October 1, 2001:

Forty-Eighth Revised Sheet No. 8A

Fortieth Revised Sheet No. 8A.01

Fortieth Revised Sheet No. 8A.02

Forty-Fourth Revised Sheet No. 8B

Thirty-Seventh Revised Sheet No. 8B.01

FGT states that the above referenced tariff sheets are being filed pursuant to Section 22 of the General Terms and Conditions (GTC) of FGT's Tariff to reflect a decrease of the ACA charge to $0.21 cents per MMBtu based on the Commission's Annual Charge Billing for Fiscal Year 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22225 Filed 9-4-01; 8:45 am]

BILLING CODE 6717-01-P